DEPARTMENT OF AGRICULTURE

Forest Service

Centennial Salvage Timber Sale; Caribou-Targhee National Forest, Fremont and Clark Counties, ID

AGENCY: Forest Service, USDA.

ACTION: Notice of withdrawal of the Notice of Intent to prepare an environmental impact statement.

SUMMARY: The Forest Supervisor of the Caribou-Targhee National Forest gives notice of the agency's intent to withdraw the Centennial Salvage Timber Sale Environmental Impact Statement. The project is being withdrawn because the trees proposed for harvest are no longer marketable and the project, as originally proposed, no longer meets resource objectives.

The original NOI was published in the Federal Register on September 9, 2004 (54627-54628). A revised NOI was published on December 1, 2004 (69883).

DATES: Effective upon the date of publication of this notice in the Federal Register, this project is withdrawn.

FOR FURTHER INFORMATION CONTACT: Cathey Hardin, Forester, Ashton-Island Park Ranger District, P.O. Box 865, Ashton, ID 83420 Telephone: (208) 558-7301.

Individuals who use telecommunication devices for the deaf (TDD) may call the Federal Information Relay Service (FIRS) at 1-800-877-8339 between 8 a.m. and 8 p.m., Eastern Standard Time, Monday through Friday.

Dated: January 23, 2008.
Lawrence A. Timchak,
Forest Supervisor.

[FR Doc. 08-514 Filed 2-5-08; 8:45 am]

BILLING CODE 3410-11-M